DEPARTMENT OF THE INTERIOR

Bureau of Land Management

[LLCO956000 L14200000.BJ0000]

Notice of Filing of Plats of Survey; Colorado

AGENCY: Bureau of Land Management, Interior.

ACTION: Notice of Filing of Plats of Survey; Colorado.

SUMMARY: The Bureau of Land Management (BLM) Colorado State Office is publishing this notice to inform the public of the official filing of the survey plats listed below. The plats will be available for viewing at http://www.glorecords.blm.gov.

DATES: The plats described in this notice were filed on February 12, 2013.

ADDRESSES: BLM Colorado State Office, Cadastral Survey, 2850 Youngfield Street, Lakewood, Colorado 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The plat and field notes of the dependent resurvey and survey in Township 5 South, Range 80 West, Sixth Principal Meridian, Colorado, were accepted on January 31, 2013, and filed on February 12, 2013.

The plat and field notes of the dependent resurvey, survey, and supplemental plat in Township 5 South, Range 81 West, Sixth Principal Meridian, Colorado, were accepted on January 31, 2013, and filed on February 12, 2013.

The plat, in 2 sheets, and field notes of the dependent resurvey and survey in Township 4 South, Range 82 West, Sixth Principal Meridian, Colorado, were accepted on January 31, 2013, and filed on February 12, 2013.

Randy Bloom,
Chief Cadastral Surveyor for Colorado.

[FR Doc. 2013-04104 Filed 2-21-13; 8:45 am]

BILLING CODE 4310-JB-P